DEPARTMENT OF THE INTERIOR

Bureau of Land Management

[WY-040-1320-EL; WYW154595]

Notice of Availability of a Final Environmental Assessment (EA) on a Coal Lease by Application (LBA) Received for a Federal Coal Tract in the Decertified Green River/Hams Fork Coal Production Region, Wyoming

AGENCY: Bureau of Land Management, Interior.

ACTION: Notice of availability (NOA).

SUMMARY: Pursuant to the National Environmental Policy Act (NEPA) and 43 Code of Federal Regulations (CFR) § 3425.4, the Bureau of Land Management (BLM) announces the availability of the Ten Mile Rim Coal Tract Final EA.

The Final EA analyzes and discloses direct, indirect, and cumulative environmental impacts of issuing a Federal coal lease on the eastern flank of the Rock Springs Uplift. These lands are located in Sweetwater County, Wyoming.

DATES: Written comments on the Final EA will be accepted for 30 days following the date this notice is published in the Federal Register.

ADDRESSES: Please address questions, comments, or concerns to the Rock Springs Field Office, Bureau of Land Management, Attn: Teri Deakins, 280 Highway 191 North, Rock Springs, Wyoming 82902; fax them to 307-352-0329; or send electronic comments to Teri Deakins at teri_deakins@blm.gov.

A copy of the Final EA has been sent to the affected Federal, State, and local government agencies; persons and entities identified as potentially being affected by a decision to lease the Federal coal in this tract; and to persons who indicated to the BLM that they wished to receive a copy of the Final EA. Copies of the Final EA are available for public inspection during business hours at the following office locations:

• Bureau of Land Management, Wyoming State Office, 5353 Yellowstone Road, Cheyenne, Wyoming 82009.

• Bureau of Land Management, Rock Springs Field Office, 280 Highway 191 North, Rock Springs, Wyoming 82901.

An electronic copy of the Final EA may be viewed or downloaded at the following Web site: http://www.wy.blm.gov/rsfo.

FOR FURTHER INFORMATION CONTACT: Teri Deakins or Jeff Clawson at the above address, or telephone 307-352-0256.

SUPPLEMENTARY INFORMATION: On September 28, 2001, Bridger Coal Company applied for a coal lease for approximately 7,054.34 acres in one tract (approximately 110 million recoverable tons of coal) adjacent to the Bridger Coal Mine in Sweetwater County, Wyoming. The tract is referred to as the Ten Mile Rim Tract, and was assigned case number WYW154595. Based on exploratory drilling results, the Ten Mile Rim Tract was modified and decreased in acreage. The modification was filed on February 11, 2003, reducing the amount of acreage to 2,242.18 acres containing approximately 44 million tons of in-place coal reserves.

The following lands are contained in the modified lease application in Sweetwater County, Wyoming:

Sixth Principle Meridian, Wyoming

T. 21 N., R. 100 W.

Section 6: Lots 8 through 14, S½NE¼, SE¼NW¼, E½SW¼, SE¼.

T. 22 N., R. 100 W.

Section 30: Lots 5 through 8, E½W½, E½.

T. 22 N., R. 101 W.

Section 26: Lots 1 through 16

Section 34: Lots 1, 2, 6, 7, 8, 13, NE¼SE¼SW¼SE¼

Containing 2,242.18 acres, more or less.

According to the modified application, the coal would be mined and sold to the Jim Bridger electrical power generating plant located adjacent to the existing mine and would therefore extend the life of the existing mine. The mine adjacent to the tract described above has an approved mining and reclamation plan from the Wyoming Department of Environmental Quality (WYDEQ) Land Quality Division, and an approved air quality permit from its Air Quality Division.

A draft EA was released for review and comment in early February 2004. The public comment period ended March 4, 2004. On March 9, 2004, a public hearing was held at the Rock Springs Field Office, Rock Springs, Wyoming. In addition to soliciting for comments on the draft EA, the purpose of the hearing was to solicit comments from the public on (1) the proposal to issue a Federal coal lease; (2) the proposed competitive lease sale; (3) the fair market value of the Federal coal; and (4) maximum economic recovery of the Federal coal included in the Ten Mile Rim tract. Eight written comment letters were received and are included in the Final EA with BLM's responses.

The Final EA analyzes two alternatives: the Proposed Action of leasing the tract and the No Action Alternative of rejecting the application to lease Federal coal. Consistent with the coal leasing regulations, BLM identified and considered other alternative tract configurations that would (1) add or subtract Federal coal to avoid bypassing coal, or (2) increase the estimated fair market value of the unleased Federal coal in this area. These were eliminated from detailed study in the EA. A decision to adopt either the Proposed Action or No Action Alternative would conform to the 1997 Green River Resource Management Plan.

The Office of Surface Mining Reclamation and Enforcement (OSM) is a cooperating agency in the preparation of the Final EA. If the tract is leased, it must be incorporated into the existing mining and reclamation plan for the adjacent Bridger coal mine. Before the Federal coal in this tract can be mined, the Secretary of the Interior must approve each revision to the MLA (Mineral Leasing Act) mining plan. OSM is the Department of the Interior agency that would be responsible for recommending approval, approval with conditions, or disapproval of the revised MLA plans to the Secretary of the Interior.

The BLM asks that those submitting comments make them as specific as possible with reference to page numbers and chapters of the Final EA. Comments that contain only opinions or preferences will not receive a formal response; however, they will be considered and included as part of the BLM decisionmaking process. Comments, including names and street addresses of respondents, will be available for public review at the address listed above during business hours (7:45 a.m. through 4:30 p.m.), Monday through Friday, except holidays. Individual respondents may request confidentiality. BLM will not accept anonymous comments. If you wish to withhold your name or street address from public review or from disclosure under the Freedom of Information Act, you must state this prominently at the beginning of your written comment. Such requests will be honored to the extent allowed by law. All submissions from organizations or businesses, and from individuals identifying themselves as representatives or officials or organizations or businesses, will be made available for public inspection in their entirety.

Authority: 43 CFR 3425.4.

Dated: April 19, 2004.
Robert A. Bennett,
State Director.

[FR Doc. 04-13670 Filed 6-16-04; 8:45 am]

BILLING CODE 4310-22-P